ENVIRONMENTAL PROTECTION AGENCY

[FRL-9977-57-Region 10]

Re-issuance of a General NPDES Permit (GP) for Small Suction Dredges in Idaho

Correction

In notice document 2018-09317 appearing on page 19281 in the issue of Wednesday, May 2, 2018, make the following correction:

In the third column, under the DATES heading, in the fifth line “May 2, 2018” should read “June 1, 2018”.

[FR Doc. C1-2018-09317 Filed 5-4-18; 8:45 am]

BILLING CODE 1301-00-D